FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 6, 2018.

A. Federal Reserve Bank of Atlanta (Kathryn Haney, Director of Applications) 1000 Peachtree Street NE, Atlanta, Georgia 30309. Comments can also be sent electronically to Applications.Comments@atl.frb.org:

1. Chirag J. Bhavsar, Orlando, Florida; James M. Seneff, Jr., Winter Springs, Florida; Rice Financial Holdings, LLC, Jacksonville, Florida; C. Daniel Rice, Jacksonville, Florida; Lee E. Hanna, Jacksonville, Florida; Heath Ritenour, Longwood, Florida; Valli Ritenour, Longwood, Florida; Insurance Office of American, Inc., Longwood, Florida; Nimesh Bhavsar, Orlando, Florida; Jashvantlal Bhavsar and Ranjan Bhavsar, Ocala, Florida; Brian Bankston, Winter Springs, Florida; Phil N. Bravo, Jacksonville, Florida; I-Ting K. Chiu, Orlando, Florida; Paul B. Ellis, Orlando, Florida; John Greeley and Mary Greeley, Windermere, Florida; Andy Hyltin and Cynthia Hyltin, Orlando, Florida; JOSCA LLC, Orlando, Florida; Emma F. Kosanda, Atlanta, Georgia; Mitchel J. Laskey IRA, Longwood, Florida; Jack Liberty and Debra Liberty, Orlando, Florida; Susan K. Miller, St. Johns, Florida; Jeffrey A. Miller, Charlotte, North Carolina; Jerald P. Menozzi, Jr., Maitland, Florida; Newman Holdings, L.P., Ponte Verdra Beach, Florida; Charles W. Newman and Diane G. Newman, Ponte Verdra Beach, Florida; and Benjamin J. Patz, Windermere, Florida; to acquire voting shares of Pinnacle Bank Holding Company, Inc., and thereby acquire its subsidiary, Pinnacle Bank, both of Orange City, Florida.

Board of Governors of the Federal Reserve System, February 12, 2018.
Ann Misback,
Secretary of the Board.

[FR Doc. 2018-03159 Filed 2-14-18; 8:45 am]

BILLING CODE P